DEPARTMENT OF TRANSPORTATION

Federal Aviation Administration

Notice of Intent To Request Renewal From the Office of Management and Budget (OMB) of Seven Current Public Collections of Information

AGENCY: Federal Aviation Administration (FAA), DOT.

ACTION: Notice.

SUMMARY: In compliance with the Paperwork Reduction Act (44 U.S.C. 3501 et seq.), the FAA invites public comment on seven currently approved public information collections which will be submitted to OMB for renewal.

DATES: Comments must be received on or before July 10, 2000.

ADDRESSES: Comments may be mailed or delivered to the FAA at the following address: Ms. Judith Street, Room 613, Federal Aviation Administration, Standards and Information Division, APF-100, 800 Independence Ave., SW., Washington, DC 20591.

FOR FURTHER INFORMATION CONTACT: Ms. Judith Street at the above address or on (202) 267-9895.

SUPPLEMENTARY INFORMATION: The FAA solicits comments on the following seven current collections of information in order to evaluate the necessity of the collection, the accuracy of the agency's estimate of the burden, the quality, utility, and clarity of the information to be collected, and possible ways to minimize the burden of the collection. Following are short synopses of the information collection activities which will be submitted to OMB for review and renewal:

1. 2120-0045, Bird/Other Wildlife Strike. The data collection is used by the FAA and the International Civil Aviation Organization (ICAO) to develop standards to cope with bird and other wildlife hazards to aircraft injury to personnel, and for wildlife habitat control methods on or adjacent to airports. The Bird/Other Wildlife-Strike Reports form a statistical base in providing assistance and monitoring of the overall national bird hazard program. The responses are on a voluntary basis from pilots or others seeing bird or other wildlife strikes to aircraft. It is estimated to take 5 minutes or less to complete the form. Based on previous counts, the estimated annual burden is 125 hours.

2. 2120-0557, Passenger Facility Charge. The Aviation Safety and Capacity Expansion Act of 1990 (Public Law 101-508) authorizes airports to impose passenger facility charges (PFC). The final rule (14 CFR 158) implementing this Act was effective June 28, 1991. This program requires public agencies and certain members of the aviation industry to prepare and submit applications and reports to the DOT/FAA. This program provides additional funding for airport development which is needed now and in the future. The respondents are air carriers and public agencies. The total annual burden is estimated to be 25,500 hours.

3. 2120-0559, Aviation Research Grants Program. The FAA Aviation Research and Development Grants Program establishes uniform policies and procedures for the award and administration of research grants to colleges, universities, not for profit organizations, and profit organizations for security research. The respondents are grantees. The estimated annual burden is 2800 hours.

4. 2120-0563, Part 161—Notice and Approval of Airport Noise and Access Restrictions, Part 161. The Airport Noise and Capacity Act of 1990, Public Law 101-508, mandates the formulation of a national noise policy. One part of that mandate is the development of a national program to review noise and access restrictions on the operation of Stage 2 and Stage 3 aircraft. Respondents are airport operation of proposing voluntary agreements and/or mandatory restrictions on Stage 2 and Stage 3 aircraft operations and aircraft operators that request reevaluation of a restriction. There are an estimated 18 respondents with an average annual burden of 32,000 hours.

5. 2120-0614, Revised Standards for Cargo or Baggage Compartments in Transport Category Airplanes. This information collection pertains to specific reporting requirements for affected operators under parts 121 and 135. A new paragraph was added to sections 121.314 and 135.169 to require each certificate holder to report, on a quarterly basis, the serial numbers of the airplanes in that holder's fleet in which all Class D compartments have been retrofitted to meet Class C or E requirements, and the serial numbers of airplanes that have Class D compartments yet to be retrofitted. It is estimated that there would be 130 certificate holder respondents for an annual hourly burden of 1000 hours.

6. 2120-0616, Revisions to Digital Flight Data Recorders. This rule requires that certain airplanes be equipped to accommodate additional digital flight data recorder parameters. The revisions follow a series of safety recommendations issued by the NTSB and the FAA's decision that the FDR rules should be revised to upgrade recorder capabilities in most transport airplanes. The revisions require additional information to be collected to enable more thorough accident or incident investigation and to enable industry to predict certain trends and make necessary modifications before an accident or incident occurs. The burden on the public is the cost of retrofitting the remaining aircraft.

7. 2120-0619, Commercial Passenger-Carrying Operations in Single Engine Aircraft Under Instrument Flight Rules. The information and recordkeeping requirements will be used by the operator to ensure that all maintenance performed on the standby vacuum and electrical systems is complete, accurate, and standardized to ensure continued airworthiness. The operator will also use the information on the engine trend monitoring system to ensure engine reliability by analyzing the trend indicators and performing inspections or replacing engine parts as indicated. The respondents are an estimated 1800 part 135 operators. The estimated annual recordkeeping burden is 10,800 hours.

Issued in Washington, DC, on May 2, 2000.
Steve Hopkins,
Manager, Standards and Information Division, APF-100.

[FR Doc. 00-11492 Filed 5-8-00; 8:45 am]

BILLING CODE 4910-13-M